INTERNATIONAL TRADE COMMISSION

[Investigation No. 337-TA-1347]

Certain Location-Sharing Systems, Related Software, Components Thereof, and Products Containing Same; Notice of Commission Determination Not To Review Three Initial Determinations Terminating the Investigation as to Certain Respondents and in Its Entirety; Termination of the Investigation

AGENCY: U.S. International Trade Commission.

ACTION: Notice.

SUMMARY: Notice is hereby given that the U.S. International Trade Commission has determined not to review three initial determinations (“IDs”) of the presiding administrative law judge (“ALJ”) that terminate the above-captioned investigation as to: (1) respondent OnePlus Technology (Shenzhen) Co., Ltd. based on settlement (Order No. 24); (2) respondents Xiaomi Corporation, Xiaomi H.K. Ltd., Xiaomi Communications Co., Ltd., and Xiaomi Inc. based on settlement (Order No. 25); and (3) the remaining respondents based on withdrawal of the complaint (Order No. 26). The investigation is terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on December 30, 2022, based on a complaint filed by Advanced Ground Information Systems, Inc. of Jupiter, Florida and AGIS Software Development LLC of Marshall, Texas (collectively, “AGIS”). 87 FR 80568-69 (Dec. 30, 2022). The complaint, as supplemented, alleges violations of section 337 of the Tariff Act of 1930, as amended, 19 U.S.C. 1337, based on the importation into the United States, the sale for importation, and the sale within the United States after importation of certain location-sharing systems, related software, components thereof, and products containing same by reason of the infringement of certain claims of U.S. Patent Nos. 8,213,970 (“the '970 patent”); 9,445,251 (“the '251 patent”); 9,467,838 (“the '838 patent”); 9,749,829 (“the '829 patent”); and 9,820,123 (“the '123 patent”). Id. at 80568. The complaint further alleges that a domestic industry exists. Id.

The notice of investigation named 26 respondents: (1) Kyocera Corporation (“Kyocera”) of Kyoto, Japan; (2) OnePlus Technology (Shenzhen) Co., Ltd. (“OnePlus”) of Shenzhen, Guangdong, China; (3) Xiaomi Corporation of Grand Cayman, Cayman Islands; Xiaomi H.K. Ltd. of Kowloon City, Hong Kong; Xiaomi Communications Co., Ltd. of Beijing, China; and Xiaomi Inc. of Beijing, China (collectively, “Xiaomi”); and (4) Google LLC of Mountain View, California; Samsung Electronics, Co., Ltd. of Suwon, Republic of Korea; Samsung Electronics America, Inc. of Ridgefield Park, New Jersey; TCL Technology Group Corporation of Huizhou, Guangdong, China; TCL Electronics Holdings Limited of Hong Kong Science Park, Hong Kong; TCL Communication Technology Holdings Limited of Hong Kong Science Park, Hong Kong; TCT Mobile (US) Inc. of Irvine, California; Lenovo Group Ltd. of Beijing, China; Lenovo (United States) Inc. of Morrisville, North Carolina; Motorola Mobility LLC of Chicago, Illinois; HMD Global of Espoo, Finland; HMD Global OY of Espoo, Finland; HMD America, Inc. of Miami, Florida; Sony Corporation of Tokyo, Japan; Sony Mobile Communications, Inc. of Tokyo, Japan; ASUSTek Computer Inc. of Taipei, Taiwan; ASUS Computer International of Fremont, California; BLU Products of Doral, Florida; Panasonic Corporation of Osaka, Japan; Panasonic Corporation of North America of Secaucus, New Jersey (collectively, the “Remaining Respondents”). Id. at 80569. The Office of Unfair Import Investigations (“OUII”) is also named as a party. Id.

On February 17, 2023, the Commission amended the complaint and notice of investigation to substitute Panasonic Holdings Corporation of Osaka, Japan, in place of named respondent Panasonic Corporation. Order No. 7 (Feb. 1, 2023), unreviewed by 88 FR 11477 (Feb. 23, 2023).

On June 6, 2023, the Commission terminated the investigation as to the following asserted claims based on withdrawal: (i) claim 2 of the '970 patent; (ii) claims 1-2, 7-8, 23, 25, 29-30, and 35 of the '251 patent; (iii) claims 3, 5-8, 10, 16, 19, 38, 40, 55-56, 61-64, 68, 71-72, 80 and 84 of the '838 patent; (iv) claims 1, 8, 34, and 41 of the '829 patent; and (v) claim 14 of the '123 patent. Order No. 16 (May 17, 2023), unreviewed by Comm'n Notice (June 6, 2023).

On June 27, 2023, the Commission terminated the investigation as to Kyocera based on settlement. Order No. 19, unreviewed by Comm'n Notice (June 27, 2023).

On June 14, 2023, AGIS and OnePlus filed a joint motion to terminate the investigation as to OnePlus based on a settlement agreement. On June 16, 2023, OUII filed a response supporting the motion. No other responses to the motion were filed.

On June 15, 2023, AGIS and Xiaomi filed a joint motion to terminate the investigation as to Xiaomi based on a settlement agreement. On June 16, 2023, OUII filed a response supporting the motion. No other responses to the motion were filed.

On June 15, 2023, AGIS filed a motion to terminate the investigation as to the Remaining Respondents based on withdrawal of the complaint. On June 16, 2023, OUII filed a response supporting the motion. On June 20, 2023, the Remaining Respondents filed a response stating that they do not oppose the motion. No other responses to the motion were filed.

On June 20, 2023, the ALJ issued all three subject IDs (Order Nos. 24, 25, and 26). Order Nos. 24 and 25 grant the unopposed joint motions to terminate the investigation as to OnePlus and Xiaomi, respectively, finding that the motions comply with the requirements of Commission Rule 210.21(b)(1) (19 CFR 210.21(b)(1)), and that the proposed settlements do not adversely affect the public interest in accordance with Commission Rule 210.50(b)(2) (19 CFR 210.50(b)(2)). Order No. 24 at 2-3; Order No. 25 at 2-3. Order No. 26 grants the unopposed motion to terminate the investigation as to the Remaining Respondents and thus in its entirety, finding that the motion complies with the requirements of Commission Rule 210.21(a)(1) (19 CFR 210.21(a)(1)), and that “no extraordinary circumstances exist that would prevent the requested termination of this Investigation.” Order No. 26 at 2-3. No petitions for review of the subject IDs were filed.

The Commission has determined not to review the subject IDs. The investigation is terminated as to OnePlus, Xiaomi, and the Remaining Respondents and, thus, in its entirety.

The Commission vote for this determination took place on July 7, 2023.

The authority for the Commission's determination is contained in section 337 of the Tariff Act of 1930, as amended (19 U.S.C. 1337), and in Part 210 of the Commission's Rules of Practice and Procedure (19 CFR part 210).

By order of the Commission.
Issued: July 10, 2023.
Lisa Barton,
Secretary to the Commission.

[FR Doc. 2023-14840 Filed 7-12-23; 8:45 am]

BILLING CODE 7020-02-P